DEPARTMENT OF COMMERCE

National Oceanic and Atmospheric Administration

Agency Information Collection Activities; Submission to the Office of Management and Budget (OMB) for Review and Approval; Comment Request; Economic Analysis of Shoreline Treatment Options for Coastal New Hampshire

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 26, 2021 (86 FR 22034) during a 60-day comment period. This notice allows for an additional 30 days for public comments.

Agency: National Oceanic & Atmospheric Administration, Commerce.

Title: Economic Analysis of Shoreline Treatment Options for Coastal New Hampshire.

OMB Control Number: 0648-0788.

Form Number(s): None.

Type of Request: Regular submission [revision of a current information collection].

Number of Respondents: 2,701.

Average Hours per Response: Pretest—17 minutes; Full survey—20 minutes; Non-response survey—5 minutes.

Total Annual Burden Hours: 824.

Needs and Uses: This is a request for a revision to information collection 0648-0788, sponsored by the National Oceanic and Atmospheric Administration (NOAA) National Center for Coastal Ocean Science (NCCOS). This collection will benefit the NOAA, Office of Coastal Management (OCM), and decision-makers on the state and local level in New Hampshire. NOAA will collect economic data pursuant to the Coastal Zone Management Act (CZMA) and Digital Coastal Act.

The New Hampshire Coastal Risk and Hazards Commission (CRHC) was established by the State Legislature through RSA 483-E on July 2, 2013. The purpose of the Commission, as stated in the law, is to “recommend legislation, rules and other actions to prepare for projected sea-level rise and other coastal watershed hazards such as storms, increased river flooding and storm water runoff, and the risks such hazards pose to municipalities and the state assets in New Hampshire.” Further, in carrying out this charge, the Commission is specifically directed to “review National Oceanic and Atmospheric Administration and other scientific agency projections of coastal storm inundation and flood risk to determine the appropriate information, data, and property risks” to incorporate into its recommendations.

In 2016, the CRCH recommended the development of a “comprehensive, integrated New Hampshire Coastal Shoreline Management Plan (CSMP) that presents general priorities for coastal shoreline management, as well as site-specific and place-based strategies including, where appropriate, protection, adaptation, and abandonment.” Following a New Hampshire Shoreline Management workshop organized by GBNERR in 2014 and consistent with CRHC Recommendation BL6, NHCP has prioritized living shoreline assessment and implementation in its five-year strategy to enhance coastal management (309 Strategy, 2015) and set a longer term goal to develop a Tidal Shoreline Management Plan (TSMP) for New Hampshire.

The National Ocean Service (NOS) proposes to collect economic data to document perceived effects of weather and climate events and adaptation strategies, to assess probable public benefits that would be derived from shoreline treatment options within coastal New Hampshire, and to establish a baseline for future monitoring of NOAA's success in meeting its mandates and obligations.

Respondents will be randomly sampled from households (1) within New Hampshire, (2) within block groups in Maine adjacent to the Piscataqua River, and (3) within block groups in Massachusetts adjacent to the Hampton-Seabrook Estuary. Questions will explore such issues as participation in recreational activities, familiarity with weather and climate effects and adaptation methods, sense of place, and opinions on shoreline treatment options. No PII will be collected. The final collection will support the development of a CSMP for New Hampshire as well as provide information to help inform local coastal zone management and planning.

Upon analysis of the pre-test data and guidance from experts in survey methodology, the following changes were made to enhance understanding, response rate, and to minimize respondent burden:

• Question 4: “suffered damage” has been replaced with “been damaged” to avoid potential bias an increase data quality.

• Questions 7a/8a: “coastal flooding” has been replaced with “flooding” to not exclude riverine flooding.

• Questions 7a/8a, 7b/8b: “flooding damage” and “shoreline erosion damage” were replaced with “damage from flooding” and “damage from shoreline erosion” to improve understanding.

• Questions 14h and 14i were removed based on pre-test results to reduce burden without decreasing data quality.

• Questions 16-21 originally asked respondents to indicate their preference to six unique policy options, but now respondents are asked to compare three sets of unique policy options. Pre-test results suggested that respondents would prefer to compare policies rather than rate them individually, and comparing three sets of policy options should reduce burden while increasing data quality.

• Question 22b: This question is now asked after each policy comparison instead of once to improve data quality.

• Question 22f: “a public vote or referendum” was replaced with “being considered by the New Hampshire legislature” to convey the same information, but using region-specific terminology, which should increase data quality.

• Question 22: An additional statement was added to capture potentially invalid responses due to “scenario rejection,” which should increase data quality.

• Question 23: The question and response option phrasings have been updated to reflect the modified choice experiment.

• Question 30: The year has been updated from 2019 to 2020 when asking about the previous year's household income.

• A question has been added to ask how long the respondent has been a resident of their current state. Respondents who have recently moved within their state may have different opinions than those who have recently moved from out-of-state, so this additional question should increase data quality.

Affected Public: Individuals or households.

Frequency: Once.

Respondent's Obligation: Voluntary.

Legal Authority: This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0788.

Sheleen Dumas,
Department PRA Clearance Officer, Office of the Chief Information Officer, Commerce Department.

[FR Doc. 2021-14354 Filed 7-2-21; 8:45 am]

BILLING CODE 3510-JE-P